DEPARTMENT OF ENERGY

Federal Energy Regulatory Commission

[Docket No. EL12-80-000]

Notice of Petition for Enforcement and Declaratory Order; Exelon Wind 1, LLC; Exelon Wind 2, LLC; Exelon Wind 3, LLC; Exelon Wind 4, LLC; Exelon Wind 5, LLC; Exelon Wind 6, LLC; Exelon Wind 7, LLC; Exelon Wind 8, LLC; Exelon Wind 9, LLC; Exelon Wind 10, LLC; Exelon Wind 11, LLC; High Plains Wind Power, LLC

Take notice that on June 29, 2012, pursuant to section 210(h)(2) of the Public Utility Regulatory Policies Act of 1978 (PURPA) and Rule 207 (a)(2) of the Rules of Practice and Procedure of the Federal Energy Regulatory Commission (Commission), Exelon Wind 1, LLC, Exelon Wind 2, LLC, Exelon Wind 3, LLC, Exelon Wind 4, LLC, Exelon Wind 5, LLC, Exelon Wind 6, LLC, Exelon Wind 7, LLC, Exelon Wind 8, LLC, Exelon Wind 9, LLC, Exelon Wind 10, LLC, Exelon Wind 11, LLC, and High Plains Wind Power, LLC (the Exelon Wind Companies) filed a petition requesting the Commission take enforcement action under section 210(h) of PURPA, or in the alternative, issue a declaratory order finding that an order issued by the Public Utility Commission of Texas in PUC Docket No. 37361 ¹ fails to implement PURPA and the Commission's Regulations.²

¹ See Application of Southwestern Public Service Company for Authority to Revise its Tariff for Purchase of Non-Firm Energy from Qualifying Facilities, PUC Docket No. 37361, Order of Aug. 19 2010, superseded by Order on Rehearing of Oct. 6, 2010.

² 18 CFR part 292 (2012).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC There is an “eSubscription” link on the Web site that enables subscribers to receive email notification when a document is added to a subscribed docket(s). For assistance with any FERC Online service, please email FERCOnlineSupport@ferc.gov, or call (866) 208-3676 (toll free). For TTY, call (202) 502-8659.

Comment Date: 5 p.m. Eastern Time on July 30, 2012.

Dated: July 2, 2012.
Kimberly D. Bose,
Secretary.

[FR Doc. 2012-16753 Filed 7-9-12; 8:45 am]

BILLING CODE 6717-01-P